DEPARTMENT OF THE INTERIOR

Office of the Secretary

Establishment of Trinity River Adaptive Management Working Group

AGENCY: Office of the Secretary, Interior.

ACTION: Notice of establishment.

SUMMARY: The Secretary of the Interior, after consultation with the General Services Administration, has established the Trinity River Adaptive Management Working Group (Working Group). The Working Group will provide recommendations on all aspects of the implementation of the Trinity River Restoration Program and affords stakeholders the opportunity to give policy, management, and technical input concerning Trinity River restoration efforts. The Working group replaces the Trinity River Basin Fish and Wildlife Task Force (Bureau of Reclamation) and will perform similar, although expanded, functions.

FOR FURTHER INFORMATION CONTACT: Mary Ellen Mueller, U.S. Fish and Wildlife Service, California/Nevada Operations Office, 2800 Cottage Way, Suite W2606, Sacramento, CA 95825, 916-414-6464.

SUPPLEMENTARY INFORMATION: We are publishing this notice in accordance with the requirements of the Federal Advisory Committee Act (5 U.S.C. App.) (FACA). The Secretary of the Interior certifies that she has determined that the formation of the Working Group is necessary and is in the public interest.

The Working Group will conduct its operations in accordance with the provisions of Federal Advisory Committee Act. It will report to the Secretary of the Interior through the Trinity River Management Council and will function solely as an advisory body. The Working Group will provide recommendations and advice to the Trinity Management Council on (1) the effectiveness of management actions in achieving restoration goals and alternative hypotheses for study, (2) the priority of restoration projects, (3) funding priorities, and (4) other program components.

The Secretary will appoint members who can effectively represent the varied interests associated with the Trinity River Restoration Program. Members will represent stakeholders, Federal and State agencies, and tribes. Members will be senior representatives of their respective constituent groups with knowledge of the Trinity River Restoration Program including the Adaptive Environmental Assessment and Management Program. The Secretary will appoint Working Group members based on nominations submitted by interested parties, including but not limited to Trinity County residents, recreational and commercial fishermen, commercial and recreational boaters, power utilities, water users, forestry, grazing/ranchers, tribal interests, environmental interests, and the general public.

The Working Group will meet at least two times per year. The U.S. Fish and Wildlife Service will provide necessary support services to the Working Group. All Working Group meetings, as well as its subcommittee meetings, will be open to the public. A notice announcing each Working Group meeting will be published in the Federal Register at least 15 days before the date of the meeting. The public will have the opportunity to provide input at all meetings.

We expect the Working Group to continue for the duration of the Trinity River Restoration Program. Its continuation is, however, subject to biennial renewal.

Fifteen days after publication of this notice in the Federal Register, we will file a copy of the Working Group's charter with the Committee Management Secretariat, General Services, Administration; Committee on Environment and Public Works, United States Senate; Committee on Resources, United States House of Representatives; and the Library of Congress.

The Certification for establishment is published below.

Certification

I hereby certify that the Trinity River Adaptive Management Working Group is necessary and is in the public interest in connection with the performance of duties imposed on the Department of the Interior by Public Laws 84-386, 96-335 (Trinity River Stream Rectification Act), 98-541 and 104-143 (Trinity River Basin Fish and Wildlife Management Act of 1984, and 102-575 (The Central Valley Improvement Act). The Working Group will assist the Department of the Interior by providing advice and recommendations on all aspects of implementation of the Trinity River Restoration Program.

Dated: March 12, 2002.
Gale A. Norton,
Secretary of the Interior.

[FR Doc. 02-7957 Filed 4-1-02; 8:45 am]

BILLING CODE 4310-55-M